DEPARTMENT OF TRANSPORTATION

Federal Railroad Administration

[Docket No. FRA-2020-0027-N-33]

Proposed Agency Information Collection Activities; Comment Request

AGENCY: Federal Railroad Administration (FRA), U.S. Department of Transportation (DOT).

ACTION: Notice of information collection; request for comment.

SUMMARY: Under the Paperwork Reduction Act of 1995 (PRA) and its implementing regulations, FRA seeks approval of the Information Collection Request (ICR) abstracted below. Before submitting this ICR to the Office of Management and Budget (OMB) for approval, FRA is soliciting public comment on specific aspects of the activities identified in the ICR.

DATES: Interested persons are invited to submit comments on or before February 16, 2021.

ADDRESSES: Submit comments and recommendations for the proposed ICR to Ms. Hodan Wells, Information Collection Clearance Officer at email: hodan.wells@dot.gov or telephone: (202) 493-0440. Please refer to the assigned OMB control number in any correspondence submitted. FRA will summarize comments received in response to this notice in a subsequent notice and include them in its information collection submission to OMB for approval.

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8 through 1320.12. Specifically, FRA invites interested parties to comment on the following ICR regarding: (1) whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, FRA reasons that comments received will advance three objectives: (1) reduce reporting burdens; (2) organize information collection requirements in a “user-friendly” format to improve the use of such information; and (3) accurately assess the resources expended to retrieve and produce information requested. See 44 U.S.C. 3501.

The summary below describes the ICR that FRA will submit for OMB clearance as the PRA requires:

Title: Occupational Noise Exposure for Railroad Operating Employees.

OMB Control Number: 2130-0571.

Abstract: Title 49 CFR part 227 contains requirements for occupational noise exposure. FRA uses the collection of information to ensure that railroads covered by this rule establish and implement noise monitoring, hearing conservation, and audiometric testing programs to protect their employees against the harmful effects of excessive noise in the workplace. Additionally, railroads must maintain testing and training records on noise and hearing conservation. Further, railroads must make exposure measurement records for specific locations available to regional or national labor representatives upon request.

Type of Request: Extension with change (estimates) of a currently approved collection.

Affected Public: Businesses (Railroads, railroads equipment manufacturers).

Form(s): N/A.

Respondent Universe: 512 railroads.

Frequency of Submission: On occasion.

Reporting Burden:

CFR Section ¹ | Respondent universe (railroads) | Total Annual responses | Average time per response | Total annual burden hours | Total cost equivalent ²
227.13—Waivers | 512 railroads | .3 petition letters | 1 hour | .3 | $23
227.103(a)-(f)—Noise monitoring program—Development and implementation | 512 railroads | 5 programs | 30 hours | 150 | 18,000
—(g) Reporting of monitoring results—Notification of employee of monitoring | 512 railroads | 5 lists | 30 minutes | 3 | 231
227.107(a)—Hearing Conservation Program (HCP)—Development of programs | 512 railroads | 3 HCPs | 31 hours | 93 | 11,160
—Revised hearing conservation programs (HCPs) | 512 railroads | 3 HCPs | 1.75 hours | 5 | 385
227.109(e)—Audiometric testing program—Baseline audiograms—New and existing employees | 76,244 employees | 6,862 records of tests | 30 seconds | 57 | 4,389
—(f) Periodic audiograms | 76,244 employees | 25,415 records of tests | 30 seconds | 212 | 16,324
—(g)(1)-(2) Evaluation of audiograms | 76,244 employees | 2,330 ratings + 93 records of retests | 6 minutes + 30 seconds | 234 | 18,018
—(g)(3) Review of problem audiograms | 8,000 employees | 45 documents | 10 minutes | 8 | 616
— (h)(1) Follow-up procedures—notifications | 8,000 employees | 93 notices | 5 minutes | 8 | 616
—(h)(2)(i)-(ii) Fitting/training of employees: hearing protectors | 240 employees | 240 documenting training sessions | 5 minutes | 20 | 1,540
— (h)(2)(iii) Referrals for clinical/otological exam | 240 employees | 20 referrals | 1 hour | 20 | 1,540
— (h)(2)(iv) Notification to employee of need for otological examination | 240 employees | 20 notices | 5 minutes | 2 | 154
— (h)(3) New audiometric interpretation | 240 employees | 20 notices | 5 minutes | 2 | 154
227.111—Audiometric test requirements | 1,000 mobile vans | 1,000 records of tests | 30 seconds | 8 | 616
227.117(a)—Hearing protection attenuation— evaluation | 512 railroads | 50 evaluations | 30 minutes | 25 | 1,925
— (d) Reevaluations of adequacy of hearing protection attenuation when employee noise exposure increases | 512 railroads | 10 documented re-evaluations | 30 minutes | 5 | 385
227.119—Hearing Conservation Training Program—Development | 512 railroads | 3 training program modifications | 60 minutes | 3 | 231
—Employee HCP training | 512 railroads | 26,000 records of trainings | 2 minutes | 867 | 66,759
—Periodic training | 512 railroads | 6,862 records of trainings | 2 minutes | 229 | 17,633
227.121(a)(1)(i)-(ii)—Recordkeeping—Availability of records upon request | 512 railroads | 30 requests + 30 responses | 10 minutes + 15 minutes | 13 | 1,001
—(a)(1)(iv) Availability of exposure measurement records to regional or national labor representatives upon request | 512 railroads | 150 requests + 150 responses | 21 minutes + 45 minutes | 165 | 12,705
—(a)(2)-(3) Electronic records—Maintenance and transfer of records | 512 railroads | 10 records | 24 minutes | 4 | 308
—(c) Audiometric test records | 512 railroads | 26,000 records | 2 minutes | 867 | 66,759
—(d) Positions and person designated records | 512 railroads | 54,000 records | 45 seconds | 675 | 51,975
229.121(a)—Locomotive Cab Noise—Performance standards for locomotives—Records and certification | 3 equipment manufacturers | 610 records + 90 certifications | 5 minutes + 40 minutes | 111 | 8,547
—(b)(3) Maintenance of locomotives—Excessive noise reports | 494 railroads | 3,000 reports + 3,000 records | 1 minute + 1 minute | 100 | 7,700
—(b)(4) Recordkeeping—Written or electronic records | 494 railroads | 3,750 records | 1 minute | 63 | 4,851
—(b)(4)(iii) Internal auditable monitoring systems—Records | 494 railroads | 22 systems + 2 systems | 36 min + 8.25 hours | 30 | 2,310
Appendix H(IV)—Static noise test protocols—Records for retest | 500 locomotives | 2 retest records | 5 minutes | .2 | 15
Total | 512 railroads | 159,927 responses | N/A | 3,980 | 316,871

Total Estimated Annual Responses: 159,927.

¹ The current inventory exhibits a total burden of 28,311 hours while the total burden of this notice is 3,980 hours. FRA determined some of the estimates were not derived from PRA requirements, thus leading to the increased figures in the current inventory, which were decreased accordingly in this notice. Also, totals may not add due to rounding.

² The dollar equivalent cost is derived from the Surface Transportation Board's Full Year Wage A&B data series using the appropriate employee group hourly wage rate that includes a 75-percent overhead charge.

Total Estimated Annual Burden: 3,980 hours.

Total Estimated Annual Burden Hour Dollar Cost Equivalent: $316,871.

Under 44 U.S.C. 3507(a) and 5 CFR 1320.5(b) and 1320.8(b)(3)(vi), FRA informs all interested parties that a respondent is not required to respond to, conduct, or sponsor a collection of information that does not display a currently valid OMB control number.

Authority: 44 U.S.C. 3501-3520.

Brett A. Jortland,
Deputy Chief Counsel.

[FR Doc. 2020-27925 Filed 12-17-20; 8:45 am]

BILLING CODE 4910-06-P